DEPARTMENT OF THE INTERIOR

Bureau of Land Management

[BLM_NM_FRN_MO4500178720]

Notice of Protest Acceptance; Oklahoma

AGENCY: Bureau of Land Management, Interior.

ACTION: Protest decision accepted.

SUMMARY: On September 29, 2020, the Bureau of Land Management (BLM) published in the Federal Register, Volume 85, Number 189, on page 61028, a notice entitled “Notice of Filing of Plats of Survey; New Mexico; Oklahoma.” The Notice stated that four supplemental plats were scheduled to be officially filed 30 days after the date, unless a person or party who wished to protest any of these surveys filed a timely, written Notice of Protest. On October 23, 2020, the Bureau of Land Management received a timely protest to the filing of the four supplemental plats.

SUPPLEMENTARY INFORMATION: On September 14, 2021, the BLM published a notice in the Federal Register, Volume 86, Number 175, on page 51182, a notice entitled “Notice of Filing of Plats of Survey; Oklahoma.” This notice stated that the official filing of the four Oklahoma supplemental plats had been stayed, pending consideration of all protests.

On February 27, 2024, the BLM New Mexico State Office State Director issued a decision and accepted the Arkansas River Authority's protest of the four supplemental plats.

The previous notices and protest decision letter apply to the following Supplemental Plats:

Indian Meridian, Oklahoma

The supplemental plat, within Township 10 North, Range 27 East, section 4, accepted July 8, 2020, for Group 224, Oklahoma.

The supplemental plat, within Township 10 North, Range 27 East, section 5, accepted July 8, 2020, for Group 224, Oklahoma.

The supplemental plat, in two sheets, within Township 10 North, Range 27 East, section 19, accepted August 13, 2020, for Group 223, Oklahoma.

The supplemental plat, within Township 11 North, Range 27 East, section 33, accepted July 8, 2020, for Group 224, Oklahoma.

The stay of filing published in the Federal Register on September 14, 2021, will not be lifted because the protest was accepted, and the acceptance of the plats was cancelled.

Authority: 43 U.S.C. chap. 3.

Melanie G. Barnes,
BLM New Mexico State Director.

[FR Doc. 2024-09324 Filed 5-1-24; 8:45 am]

BILLING CODE 4331-23-P